DEPARTMENT OF COMMERCE

National Oceanic and Atmospheric Administration

50 CFR Parts 223 and 224

[I.D. 052104F]

Endangered and Threatened Species: Extension of Public Comment Period and Notice of Public Hearings on Proposed Listing Determinations for West Coast Salmonids

AGENCY: National Marine Fisheries Service (NMFS), National Oceanic and Atmospheric Administration (NOAA), Commerce.

ACTION: Extension of public comment period; notice of public hearings.

SUMMARY: In June 2004, NMFS proposed to list 27 Evolutionarily Significant Units (ESUs) of salmon and O. mykiss as threatened and endangered under the ESA. As part of this proposal, NMFS announced a public comment period. In this notice, NMFS is extending the public comment period for this proposal to October 20, 2004. Additionally, NMFS is announcing that hearings will be held at eight locations in the Pacific Northwest from mid-September to mid-October to provide additional opportunities and formats to receive public input. Dates and locations of public hearings to be held in California will be announced in a subsequent Federal Register notice.

DATES: Written comments must be received by October 20, 2004. See SUPPLEMENTARY INFORMATION for the specific public meeting dates.

ADDRESSES: You may submit comments on the proposed listing determinations for 27 ESUs of West Coast Salmon and O. mykiss (69 FR 33101; June 14, 2004) by any of the following methods:

E-mail: The mailbox address for submitting e-mail comments on the proposed listing determinations for 27 West Coast ESUs of salmon and O. mykiss is salmon.nwr@noaa.gov. Please include in the subject line of the e-mail comment the document identifier “Proposed Listing Determinations.”

Mail: Submit written comments and information to Chief, NMFS, Protected Resources Division, 525 NE Oregon Street, Suite 500, Portland, Oregon, 97232-2737. Please identify the comment as regarding the “Proposed Listing Determinations.” You may hand-deliver written comments to our office at the street address given above, suite 210. Business hours are 8 a.m. to 5 p.m., Monday through Friday, except Federal holidays (i.e., September 6, 2004, and October 11, 2004, during the extended comment period).

Hand Delivery/Courier: NMFS, Protected Resources Division, 525 NE Oregon Street, Suite 210, Portland, Oregon, 97232-2737. Business hours are noted above.

Fax: 503-230-5435. Please identify the fax comment as regarding the “Proposed Listing Determinations.”

Federal e-Rulemaking Portal: http://www.regulations.gov. Follow the instructions for submitting comments.

See SUPPLEMENTARY INFORMATION for hearing locations. You may obtain information updates on the public hearings on the Internet at the following web address: http://www.nwr.noaa.gov/AlseaResponse/meetings.html/.

FOR FURTHER INFORMATION CONTACT: Garth Griffin, NMFS, Northwest Region, (503) 231-2005. Copies of the Federal Register notices cited herein and additional salmon-related materials are available on the Internet at http://www.nwr.noaa.gov.

SUPPLEMENTARY INFORMATION:

Background

On June 14, 2004, NMFS published proposed ESA listing determinations for 27 salmon and O. mykiss ESUs, including 18 ESUs that occur in Oregon, Washington and Idaho (69 FR 33101). The 27 proposed listing determinations include 162 total hatchery programs as part of 4 ESUs being proposed for endangered status and 23 ESUs being proposed for threatened status. In addition, NMFS proposed amendments to the existing ESA 4(d) protective regulations for the proposed threatened ESUs.

Extension of Public Comment Period

Several requests have been received to extend the comment periods for the proposed listing determinations for 27 ESUs. The comment period for the proposed listings was to end on September 13, 2004. NMFS is extending the comment period until October 20, 2004, to allow for adequate opportunity for public comment (see DATES and ADDRESSES).

Public Hearings

Joint Commerce-Interior ESA implementing regulations state that the Secretary shall promptly hold at least one public hearing if any person requests one within 45 days of publication of a proposed regulation to list a species or to designate critical habitat (see 50 CFR 424.16(c)(3)). In past ESA rule-making NMFS has conducted traditional public hearings, consisting of recorded oral testimony from interested individuals. This format, although providing an alternative means of public input, is time consuming for the attendees and does not provide opportunities for dialogue and information exchange. NMFS believes that the traditional public hearing format can be improved upon by also including opportunities for individuals to discuss specific elements of the proposals with agency staff in small groups. The “open-house” format of the public meetings, described below, will enhance the ability of the public to engage effectively in the rulemaking process, while respecting their valuable time and resources.

Meeting Format

NMFS believes that the proposed listing determinations and a proposed hatchery listing policy (see 69 FR 31354; June 3, 2004) are important to salmon recovery. Public engagement on these intimately related proposals will be combined into the same public meetings to make efficient use of the agency's and the public's time and resources.

Afternoon Practitioners' Sessions - Afternoon sessions (1:30 p.m. to 4:30 p.m.) will be provided for local practitioners and stakeholders involved with managing the ESA on a regular basis, including: tribal governments; forestry and agricultural interests; home builders and developers; the sport and commercial fishing community; the environmental community; the business community; utility and special districts; local government elected officials and their staff; other locally-based Federal and state agencies; and public interest groups. The structure of these afternoon meetings will be tailored to allow practitioners and NMFS staff to discuss the specific issues that are of local concern. Attendance at the afternoon sessions will be on a pre-registration basis. Information on attending the practitioners' afternoon sessions is available from NMFS upon request (see FOR FURTHER INFORMATION CONTACT, above) as well as on the Internet at http://www.nwr.noaa.gov/AlseaResponse/meetings.html/.

Evening Open House and Public Testimony - Evening “open house” sessions designed for broader public participation will be conducted on the same day as the afternoon practitioners' sessions. The “open house” format will provide the general public with an opportunity to meet with NMFS staff in small groups on specific topics in order to learn more about the proposals and their possible impacts on their communities. These evening meetings will also provide opportunities for the public to make formal recorded comments on the proposals. The preferred means of providing public comment for the official record is via written testimony prepared in advance of the meeting. In addition, blank “comment sheets” will be provided at the evening meetings for those without prepared written comments, and facilities will also be provided for recording oral testimony. The evening sessions will be open from 6:30 p.m to 9:30 p.m. Because these sessions will be designed as open houses where the public can move from “station” to “station” and discuss their particular interests with NMFS staff, members of the local community can come and go from the meeting as they please. For those who are interested, there will also be a short presentation on the proposed listing determinations and the proposed hatchery listing policy from NMFS beginning at 6:30 p.m. NMFS hopes that this format will allow busy community members to participate without necessarily attending the entire evening. Members of the public wishing to attend the evening open house meetings will receive the notification through advertising, NMFS Northwest Region's web page (http://www.nwr.noaa.gov/AlseaResponse/meetings.html/), and public notices published in their community. There is no need to register; just drop in anytime during the course of the evening event.

Meeting Dates & Locations

Public meetings, including both afternoon practitioners' (1:30 p.m. to 4:30 p.m.) and evening open house sessions (6:30 p.m. to 9:30 p.m.), will be held at eight locations in the Pacific Northwest from mid-September to mid-October. The specific dates and locations of these meetings are listed below:

(1) September 14, 2004, at the Chelan County Public Utility District (PUD) Auditorium, 327 N. Wenatchee Ave., Wenatchee, WA 98801.

(2) September 16, 2004, at the Red Lion Hotel Columbia Center, N. 1101 Columbia Center Blvd, Kennewick, WA 99336.

(3) September 22, 2004, at the Shilo Inn Hotel,536 SW Elizabeth, Newport, OR 97635.

(4) September 28, 2004, at the Stagecoach Inn, 201 Highway 93 North, Salmon, ID 83467.

(5) September 30, 2004, at the Red Lion Hotel, 621 21st St., Lewiston, ID 83501.

(6) October 5, 2004, at the Radisson Hotel (SeaTac Airport), 17001 Pacific Highway South, Seattle WA 98118.

(7) October 7, 2004, at Umpqua Community College, 1140 College Rd., Roseburg, OR 97470.

(8) October 13, 2004, at the Portland Building, 1120 SW 5th Ave, Portland, OR 97204.

Directions to the meeting locations can be obtained on the Internet at http://www.nwr.noaa.gov/AlseaResponse/meetings.html/. Dates and locations of public hearings to be held in California will be announced in a subsequent Federal Register notice.

In scheduling these public meetings, NMFS has anticipated that many affected stakeholders and members of the public may prefer to discuss the proposed listing determinations directly with staff during the public comment period. These public meetings are not the only opportunity for the public to provide input on this proposal. The public and stakeholders are encouraged to continue to comment and provide input to NMFS on the proposals (via correspondence, e-mail, and the Internet; see ADDRESSES, above) up until the scheduled close of the comment period on October 20, 2004.

References

Copies of the Federal Register notices and related materials cited in this document are available on the Internet at http://nwr.noaa.gov, or upon request (see ADDRESSES section above).

Authority: 16 U.S.C. 1531 et seq.

Dated: August 25, 2004.
Donna Wieting,
Acting Director, Office of Protected Resources, National Marine Fisheries Service.

[FR Doc. 04-19867 Filed 8-30-04; 8:45 am]

BILLING CODE 3510-22-S